ENVIRONMENTAL PROTECTION AGENCY

40 CFR Parts 141 and 142

[EPA-HQ-OW-2008-0878; FRL-9195-5]

RIN 2040-AD94

National Primary Drinking Water Regulations: Revisions to the Total Coliform Rule; Extension of Comment Period

AGENCY: Environmental Protection Agency (EPA).

ACTION: Extension of comment period.

SUMMARY: The Environmental Protection Agency (EPA) is extending by 30 days the public comment period for a proposed National Primary Drinking Water Regulation, the Revisions to the Total Coliform Rule (RTCR), which was published in the Federal Register on July 14, 2010. This extended comment period will afford greater opportunity to all interested parties to review and submit comments on the proposal.

DATES: Comments must be received on or before October 13, 2010.

ADDRESSES: Comments may be submitted by mail to: Water Docket, Environmental Protection Agency, Mail Code 28221T, 1200 Pennsylvania Ave., NW., Washington, DC 20460, Attention Docket ID No. EPA-HQ-OW-2008-0878. Comments may also be submitted electronically or through hand delivery/courier by following the instructions provided in the SUPPLEMENTARY INFORMATION section.

FOR FURTHER INFORMATION CONTACT: For technical inquiries, contact Sean Conley, Office of Ground Water and Drinking Water (MC 4607M), U.S. Environmental Protection Agency, 1200 Pennsylvania Ave., NW., Washington, DC 20460; telephone (202) 564-1781. For general information, contact the Safe Drinking Water Hotline, Telephone (800) 426-4791 or e-mail: hotline-sdwa@epa.gov.

SUPPLEMENTARY INFORMATION: The comment period for the proposed RTCR now ends on October 13, 2010. This is an extension of 30 days beyond the comment period established in the Federal Register on July 14, 2010. Anyone seeking to submit comments must follow the procedures specified in the SUMMARY section of the proposal as published in the Federal Register (75 FR 40926, July 14, 2010). The RTCR applies to all public water systems. The proposed revisions require systems that have an indication of coliform contamination in the distribution system to assess the problem and take corrective action that may reduce cases of illnesses and deaths due to potential fecal contamination and waterborne pathogen exposure. This proposal also establishes criteria for systems to qualify for and stay on reduced monitoring, thereby providing incentives for improved water system operation.

See the proposal as published in the Federal Register (75 FR 40926, July 14, 2010) for additional information regarding public health concerns, proposed regulatory requirements, implementation schedules, estimated costs and benefits, implementation tools, and other issues.

Dated: August 25, 2010.
Cynthia C. Dougherty,
Director, Office of Ground Water and Drinking Water.

[FR Doc. 2010-21697 Filed 8-30-10; 8:45 am]

BILLING CODE 6560-50-P